DEPARTMENT OF TRANSPORTATION

Surface Transportation Board

[Ex Parte No. 333]

Sunshine Act Meeting

Time & Date: 9:30 a.m., Friday, March 21, 2003.

Place: The Board's Hearing Room, Surface Transportation Board, 1925 K Street, NW., Washington, DC 20423.

Status: The Board will meet to discuss among themselves the following agenda items. Although the conference is open for public observation, no public participation is permitted.

Matters to be Discussed: STB Docket No. 42054, PPL Montana, LLC v. The Burlington Northern and Santa Fe Railway Company.

STB Docket No. 42056, Texas Municipal Power Agency v. The Burlington Northern and Santa Fe Railway Company.

STB Docket No. 42069, Duke Energy Corporation v. Norfolk Southern Railway Company.

STB Docket No. 42070, Duke Energy Corporation v. CSX Transportation, Inc.

STB Ex Parte No. 589, Calculation of Variable Costs in Rate Complaint Proceedings Involving Non-Class I Railroads.

STB Section 5a Application No. 118 (Sub-No. 2), EC-Mac Motor Carriers Service Association, Inc., et al.

Embraced Cases:

Section 5a Application No. 22 (Sub-No. 8), Pacific Inland Tariff Bureau, Inc.—Renewal of Agreement.

Section 5a Application No. 25 (Sub-No. 9), The New England Motor Rate Bureau, Inc.

Section 5a Application No. 34 (Sub-No. 10), Middlewest Motor Freight,—Renewal of Agreement.

Section 5a Application No. 45 (Sub-No. 16), Niagara Frontier Tariff Bureau, Inc.

Section 5a Application No. 46 (Sub-No. 21), Southern Motor Carriers Rate Conference, Inc.

Section 5a Application No. 55 (Amendment No. 2), Motor Carriers Traffic Association—Agreement.

Section 5a Application 58 (Sub-No. 4), Machinery Haulers Association Inc.—Agreement.

Section 5a Application 60 (Sub-No. 11), Rocky Mountain Tariff Bureau, Inc.

Section 5a Application 63 (Sub-No. 4), Nationwide Bulk Trucking Association, Inc.—Agreement.

Section 5a Application No. 70 (Sub-No. 12), Western Motor Tariff Bureau, Inc.—Agreement.

STB Section 5a Application Agreement No. 116 (Sub-No. 1), Willamette Tariff Bureau, Inc.—Renewal of Agreement.

Section 5a Application No. 61 (Sub-No. 6), National Classification Committee—Agreement.

STB Finance Docket No. 34276, Massachusetts Port Authority-Acquisition Exemption-Certain Assets of Boston and Maine Corporation.

Embraced Case:

STB Docket No. AB-32 (Sub-No. 92), Boston and Maine Corporation-Abandonment-in Suffolk County, MA.

STB Finance Docket No. 34210, Sunflower Rail Company, LLC-Construction and Operation Exemption-Finney County, KS.

STB Finance Docket No. 34305, The Burlington Northern and Sante Fe Railway Company-Construction and Operation-Merced County, CA.

FOR FURTHER INFORMATION CONTACT: A. Dennis Watson, Office of Congressional and Public Services, Telephone: (202)565-1596. FIRS: 1-800-877-8339.

Dated: March 14, 2003.
Vernon A. Williams,
Secretary.

[FR Doc. 03-6571 Filed 3-14-03; 2:17 pm]

BILLING CODE 4915-00-P